DEPARTMENT OF THE INTERIOR

Fish and Wildlife Service

[Docket No. FWS-HQ-IA-2018-0054; FXIA16710900000-178-FF09A30000]

Foreign Endangered Species; Marine Mammals; Issuance of Permits

AGENCY: Fish and Wildlife Service, Interior.

ACTION: Notice of issuance of permits.

SUMMARY: We, the U.S. Fish and Wildlife Service, have issued permits to conduct certain activities with endangered species under the Endangered Species Act (ESA). With some exceptions, the ESA prohibits activities involving listed species unless a Federal permit is issued to allow such activity.

ADDRESSES: Information about the applications for the permits listed in this notice is available online at www.regulations.gov. See SUPPLEMENTARY INFORMATION for details.

FOR FURTHER INFORMATION CONTACT: Brenda Tapia, by phone at 703-358-2104, via email at DMAFR@fws.gov, or via the Federal Relay Service at 800-877-8339.

SUPPLEMENTARY INFORMATION: We, the U.S. Fish and Wildlife Service (Service), have issued permits to conduct certain activities with endangered species in response to permit applications that we received under the authority of section 10(a)(1)(A) of the Endangered Species Act of 1973 (16 U.S.C. 1531 et seq.).

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to www.regulations.gov and search for the appropriate permit number (e.g., 12345C) provided in the following table:

Permit No. | Applicant | Permit issuance date
115344 | Forrest Simpson | April 17, 2018.
58260C | Northeastern University/Ocean Genome Legacy Center | April 11, 2018.
125284 | Smithsonian Institution/National Museum of Natural History | April 12, 2018.
42528C | Miami-Dade Zoological Park and Gardens | March 20, 2018.
51951C | East Texas Ranch, LP | July 24, 2018.
37142A | East Texas Ranch, LP | July 24, 2018.
32977C | Denver Zoological Foundation, d/b/a Denver Zoo | June 20, 2018.

Permit Issued Under Emergency Exemption

On May 23, 2017, the Service issued a permit (Permit No. 90984C) to the Wildlife Conservation Society, New York, New York, to import biological samples from confiscated wild-caught specimens of radiated tortoise (Astrochelys radiata) in Madagascar, for the purpose of enhancement of the survival of the species. This action was authorized under section 10(c) of the Endangered Species Act of 1973, as amended (16 U.S.C. 1531 et seq.). The Service determined that an emergency affecting the health and well-being of these confiscated tortoises existed, and that no reasonable alternative was available to the applicant for the following reason:

The Wildlife Conservation Society requested a permit to import biological samples from Dr. Randriamahazo Herilala in Analamanga, Madagascar, due to the pending review of their request for a blanket import permit covering biological samples from multiple species (Permit No. 85317C) for scientific research and diagnostics purposes. The length of time involved in reviewing this application, as well as the regulatory requirement for a 30-day public comment period associated with this proposed activity, would have caused an undue delay in analyzing these samples for the presence of any potential pathogens, diseases, or nutritional deficiencies relating to these confiscated specimens. This analysis is needed to help facilitate the placement and care of these confiscated specimens within Madagascar, mitigating further mortalities and improving the conditions under which these specimens are currently being held.

Authority

We issue this notice under the authority of the Endangered Species Act, as amended (16 U.S.C. 1531 et seq.), and its implementing regulations, and the Marine Mammal Protection Act, as amended (16 U.S.C. 1361 et seq.), and its implementing regulations.

Brenda Tapia,
Program Analyst/Data Administrator, Branch of Permits, Division of Management Authority.

[FR Doc. 2018-20078 Filed 9-14-18; 8:45 am]

BILLING CODE 4333-15-P